DEPARTMENT OF TRANSPORTATION

Surface Transportation Board

[Docket Nos. 38302S and 38376S]

United States Department of Energy and United States Department of Defense v. Baltimore & Ohio Railroad Company, et al. and Aberdeen & Rockfish Railroad Company, et al.

AGENCY: Surface Transportation Board, DOT.

ACTION: Final decision.

SUMMARY: The Surface Transportation Board (Board) approved the Settlement Agreement negotiated in these cases by the United States Departments of Energy and Defense (the Government) and by the Union Pacific Railroad Company (UP), prescribed the Agreement's rate and rate update methodologies as the maximum reasonable rate level, extinguished UP's liability for reparations, and agreed not to entertain cross-complaints against UP in subsequent proceedings involving the Government's claims for reparations against remaining railroad defendants that participated in through rates with UP. The Board declined in part to rule on, and granted in part, the Government's separate request for ground rules to govern future proceedings against remaining railroad defendants and granted the Government's request to continue holding these proceedings in abeyance subject to the Government reporting quarterly on the progress of settlement negotiations.

DATES: The decision is effective on September 1, 2005.

FOR FURTHER INFORMATION CONTACT: Joseph H. Dettmar, (202) 565-1600.[Federal Information Relay Service (FIRS) for the hearing impaired: 1-800-877-8339.]

SUPPLEMENTARY INFORMATION: The Board under 49 U.S.C. 10704 approved the Settlement Agreement negotiated by the Government and UP in these cases. The Agreement applies broadly to the nationwide movement over UP of spent nuclear fuel and “irradiated parts or constituents” in casks; other radioactive wastes requiring protective shielding or labeling, marking, or placarding; empty casks; and buffer and escort cars (covered movements). The Agreement recognizes that the transportation of the covered movements over UP constitutes common carrier service; adopts guidelines for safe handling and security; and obligates UP to provide on an as needed basis “extra services.” It also adopts rate methodologies and procedures to: (1) Govern all current and future covered movements anywhere on UP's system; (2) compensate UP for “extra services” and Government-requested dedicated train service; and (3) calculate equitable compensation to reimburse UP for emergency-related costs. Additionally, the Agreement adopts alternative dispute resolution procedures with final recourse to the Board and mechanisms to renegotiate portions of the Agreement if specific circumstances change or if changed circumstances make further adherence to the terms of the Agreement “grossly inequitable” to either party.

Additional information is available in the Board's decision, posted on the agency's Web site at http://WWW.STB.DOT.GOV.

This action will not significantly affect either the quality of the human environment or the conservation of energy resources.

Decided: July 27, 2005.
By the Board, Chairman Nober, Vice Chairman Buttrey, and Commissioner Mulvey.
Vernon A. Williams,
Secretary.

[FR Doc. 05-15188 Filed 8-1-05; 8:45 am]

BILLING CODE 4915-01-U